NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from June 5, 2008, to June 18, 2008. The last biweekly notice was published on June 17, 2008 (73 FR 34337).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D44, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer(TM) to access the Electronic Information Exchange (EIE), a component of the E-Filing system. The Workplace Forms Viewer(tm) is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Entergy Nuclear Operations, Inc., Docket No. 50-333, James A. FitzPatrick Nuclear Power Plant (JAFNPP), Oswego County, New York

Date of amendment request: April 22, 2008.

Description of amendment request: The proposed amendment would modify Technical Specification (TS) 1.0, “Definitions”, Limiting Conditions for Operation and Surveillance Requirement Applicability Section 3.4.9, “RCS [Reactor Coolant System] Pressure and Temperature (P/T) Limits”, and Section 5.0, “Administrative Controls” to delete reference to the pressure and temperature curves, and include reference to the Pressure and Temperature Limits Report (PTLR). This proposed change would adopt the methodology of SIR-05-044-A, “Pressure-Temperature Limits Report Methodology for Boiling Water Reactors,” for preparation of the pressure and temperature curves, and incorporate the guidance of TSTF-419-A, “Revise PTLR Definition and References in ISTS [Improved Standard Technical Specifications] 5.6.6, RCS PTLR.”

Basis for proposed no significant hazards consideration determination: As required by 10 CFR 50.91(a), the licensee has provided its analysis of the issue of no significant hazards consideration, which is presented below:

1. Does the proposed change involve a significant increase in the probability or consequences of an accident previously evaluated?

Response: No.

The proposed change modifies Technical Specifications (TS) Section 1.0 (“Definitions”), Limiting Conditions for Operation and Surveillance Requirement Applicability Section 3.4.9 (“RCS Pressure and Temperature (P/T) Limits”), and 5.0 (“Administrative Controls”), to delete reference to the pressure and temperature curves and include reference to the Pressure and Temperature Limits Report (PTLR). This change adopts the methodology of SIR-05-044-A, “Pressure-Temperature Limits Report Methodology for Boiling Water Reactors”, dated April 2007 for preparation of the pressure and temperature curves, and incorporates the guidance of TSTF-419-A (“Revised PTLR Definition and References in ISTS 5.6.6, RCS PTLR”). In an NRC Safety Evaluation Report dated February 6, 2007, “the NRC staff has found that SIR-05-044 is acceptable for referencing in licensing applications for General Electric-designed boiling water reactors to the extent specified and under the limitations delineated in the TR [Topical Report] and in the enclosed final SE [Safety Evaluation]”. As part of this change, the JAF Pressure and Temperature Limits Report (PTLR) based on the methodology and template provided in SIR-05-044-A is being supplied for review. The pressure and temperature curves utilize the methodology of SIR-05-044-A.

The NRC has established requirements in Appendix G to 10 CFR [Part] 50 in order to protect the integrity of the reactor coolant pressure boundary (RCPB) in nuclear power plants. Additionally, the regulation in 10 CFR Part 50, Appendix H, provides the NRC staff's criteria for the design and implementation of RPV material surveillance programs for operating lightwater reactors. Implementing this NRC approved methodology does not reduce the ability to protect the reactor coolant pressure boundary as specified in Appendix G, nor will this change increase the probability of malfunction of plant equipment, or the failure of plant structures, systems, or components. Incorporation of the new methodology for calculating P-T curves, and the relocation of the P-T curves from the TS to the PTLR provides an equivalent level of assurance that the RCPB is capable of performing its intended safety functions. Therefore, the proposed change does not involve a significant increase in the probability or consequences of an accident previously evaluated.

2. Does the proposed change create the possibility of a new or different kind of accident from any accident previously evaluated?

Response: No.

The proposed change does not affect the assumed accident performance of the RCPB, nor any plant structure, system, or component previously evaluated. The proposed change does not involve the installation of new equipment, and installed equipment is not being operated in a new or different manner. The change in methodology ensures that the RCPB remains capable of performing its safety functions. No set points are being changed which would alter the dynamic response of plant equipment. Accordingly, no new failure modes are introduced which could introduce the possibility of a new or different kind of accident from any previously evaluated.

3. Does the proposed change involve a significant reduction in a margin of safety?

Response: No.

The proposed change does not affect the function of the RCPB or its response during plant transients. There are no changes proposed which alter the set points at which protective actions are initiated, and there is no change to the operability requirements for equipment assumed to operate for accident mitigation. This change adopts the methodology of SIR-05-044-A, “Pressure-Temperature Limits Report Methodology for Boiling Water Reactors”, dated April 2007 for preparation of the pressure and temperature curves. Therefore, the proposed change does not involve a significant reduction in a margin of safety.

This change adopts the methodology of SIR-05-044-A, “Pressure-Temperature Limits Report Methodology for Boiling Water Reactors”, dated April 2007 for preparation of the pressure and temperature curves, and incorporates the guidance of TSTF-419-A (“Revise PTLR Definition and References in ISTS 5.6.6, RCS PTLR”). In an NRC Safety Evaluation Report dated February 6, 2007, the NRC staff has found that SIR-05-044 is acceptable for referencing in licensing applications for General Electric-designed boiling water reactors.”

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 440 Hamilton Avenue, White Plains, NY 10601.

NRC Branch Chief: Mark G. Kowal.

Entergy Nuclear Operations, Inc., Docket Nos. 50-247 and 50-286, Indian Point Nuclear Generating Unit Nos. 2 and 3, Westchester County, New York

Date of amendment request: March 13, 2008.

Description of amendment request: The proposed amendment would revise the Updated Final Safety Analysis Reports (UFSARs) for Indian Point Nuclear Generating Unit Nos. 2 and 3 to reflect a revised Emergency Core Cooling System (ECCS) and Component Cooling Water System (CCWS) single passive failure analysis and the recirculation phase backup capability.

Basis for proposed no significant hazards consideration determination: As required by 10 CFR 50.91(a), the licensee has provided its analysis of the issue of no significant hazards consideration, which is presented below:

1. Does the proposed change involve a significant increase in the probability or consequences of an accident previously evaluated?

Response: No.

The probabilities of accidents previously evaluated are based on the probability of initiating events for these accidents.

The proposed changes to the ECCS and CCWS (Unit 2 only) passive failure and recirculation phase backup capability licensing basis do not have any impact on the integrity of any plant system, structure or component that initiates an analyzed event. The ECCS system and the CCWS are accident mitigating systems under these conditions and therefore cannot cause accidents. Thus the probability of any accident previously evaluated is not significantly increased.

The consequences of accidents previously evaluated are determined by the results of analyses that are based on plant initial conditions, the type of accident, plant response, and the operation and potential failure of equipment and systems. Because a passive failure within 24 hours of the initiating event is not a credible failure, the ECCS and the CCWS (Unit 2 only) will continue to operate as required for accident mitigation. Therefore, the consequences of the accident are not significantly impacted by this proposed change.

2. Does the proposed change create the possibility of a new or different kind of accident from any accident previously evaluated?

Response: No.

New or different kinds of accidents can only be created by new or different accident initiators or sequences. The proposed changes do not create any new or different accident initiators because these changes do not cause failures of equipment or accident sequences different from those previously evaluated. The ECCS and CCWS (Unit 2 only) systems affected by the changes are used to mitigate the consequences of an accident that has already occurred. The proposed UFSAR changes do not significantly affect the mitigative function of these systems. No new failure mechanisms will be introduced by the proposed changes. The changes do not result in any event previously deemed incredible being made credible. Therefore, plant operation in accordance with the proposed changes will not create the possibility of a new or different [kind] of accident from any accident previously evaluated.

3. Does the proposed change involve a significant reduction in a margin of safety?

Response: No.

The proposed amendment does not involve a significant reduction in a margin of safety. The proposed changes do not adversely affect plant safety limits, set points, or design parameters.

The proposed changes assure that the ECCS, and Containment Spray recirculation functions can be adequately accomplished. The proposed changes do not have any impact on the integrity of any plant system, structure or component that initiates an analyzed event. The proposed changes do revise the ECCS and CCWS (Unit 2 only) licensing basis. The revised licensing bases were appropriately evaluated to ensure that there was no significant reduction in the margin of safety. The ECCS and CCWS will continue to provide accident mitigation capability.

Therefore, the proposed change will not create a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 440 Hamilton Avenue, White Plains, NY 10601.

NRC Branch Chief: Mark G. Kowal.

Exelon Generation Company, LLC, Docket Nos. STN 50-456 and STN 50-457, Braidwood Station, Units 1 and 2, Will County, Illinois

Docket Nos. STN 50-454 and STN 50-455, Byron Station, Unit Nos. 1 and 2, Ogle County, Illinois

Date of amendment request: April 9, 2008.

Description of amendment request: The proposed amendments would revise Technical Specifications (TSs) 5.5.6, “Pre-Stressed Concrete Containment Tendon Surveillance Program,” and 5.6.8, “Tendon Surveillance Report,” for consistency with the requirements of Title 10 Code of Federal Regulations (10 CFR) section 50.55a, “Codes and standards,” paragraph (g)(4) for components classified as American Society of Mechanical Engineers Boiler and Pressure Vessel Code (ASME Code) Class CC. Specifically, the proposed changes would replace or delete the reference to the specific ASME Code year for the tendon surveillance program with a requirement to use the applicable ASME Code and addenda as required by 10 CFR 50.55a(g)(4).

Basis for proposed no significant hazards consideration determination: As required by 10 CFR 50.91(a), the licensee has provided its analysis of the issue of no significant hazards consideration, which is presented below:

1. Does the proposed change involve a significant increase in the probability or consequences of an accident previously evaluated?

Response: No.

The proposed change revises the TS administrative controls program for consistency with the requirements of 10 CFR 50.55a(g)(4) for components classified as Code Class CC.

The revised requirements do not affect the function of the containment post-tensioning system components. The post-tensioning systems are passive components whose failure modes could not act as accident initiators or precursors. The proposed change does not impact the physical configuration or function of plant structures, systems, or components (SSCs) or the manner in which SSCs are operated, maintained, modified, tested, or inspected. The proposed change does not impact the initiators or assumptions of analyzed events, nor does it impact the mitigation of accidents or transient events.

The proposed change does not impact any accident initiators or analyzed events or assumed mitigation of accident or transient events. It does not involve the addition or removal of any equipment, or any design changes to the facility.

Therefore, the proposed change does not involve a significant increase in the probability or consequences of an accident previously evaluated.

2. Does the proposed change create the possibility of a new or different kind of accident from any accident previously evaluated?

Response: No.

The proposed change revises the TS administrative controls program for consistency with the requirements of 10 CFR 50.55a(g)(4) for components classified as Code Class CC.

The function of the containment post-tensioning system components is not altered by this change. The proposed change does not involve a modification to the physical configuration of the plant (i.e., no new equipment will be installed) or change in the methods governing normal plant operation. The proposed change will not impose any new or different requirements or introduce a new accident initiator, accident precursor, or malfunction mechanism. Additionally, there is no change in the types or increases in the amounts of any effluent that may be released off-site and there is no increase in individual or cumulative occupational exposure.

Therefore, the proposed change does not create the possibility of a new or different kind of accident from any accident previously evaluated.

3. Does the proposed change involve a significant reduction in a margin of safety?

Response: No.

The proposed change revises the TS administrative controls program requirements for consistency with the requirements of 10 CFR 50.55a(g)(4) for components classified as Code Class CC.

The function of the containment post-tensioning system components are not altered by this change. The change is conforming and administrative in nature in that it will allow the TS to be updated to refer to the most recently approved edition of the ASME Boiler and Pressure Vessel Code Subsection IWL. The safety function of the containment as a fission product barrier will be maintained.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Generation Company, LLC, 4300 Winfield Road, Warrenville, IL 60555.

NRC Branch Chief: Russell Gibbs.

Exelon Generation Company, LLC, Docket Nos. 50-352 and 50-353, Limerick Generating Station, Units 1 and 2, Montgomery County, Pennsylvania

Date of amendment request: November 13, 2007.

Description of amendment request: The proposed changes delete footnotes from technical specification (TS) Surveillance Requirement (SR) 4.4.1.2, regarding the reactor coolant system jet pumps, which require using data recorded from the original startup test program as a baseline for evaluating jet pump performance in accordance with the TS SR. Due to physical changes in plant configuration, the original baseline data may not reflect the most current performance characteristics of the jet pumps, and hence, its use could impact the accuracy of the TS SR results. This change provides the flexibility to re-establish baseline characteristics when warranted.

Basis for proposed no significant hazards consideration determination: As required by 10 CFR 50.91(a), the licensee has provided its analysis of the issue of no significant hazards consideration, which is presented below, with NRC staff edits in brackets:

1. Do the proposed changes involve a significant increase in the probability or consequences of an accident previously evaluated?

Response: No.

The proposed changes provide the ability to re-establish recirculation pump flow, core flow, or diffuser-to-lower plenum differential pressure characteristics, provided as the basis for performing the Technical Specification (TS) jet pump surveillances, based on physical changes to the plant that could affect the accuracy of the TS SR required comparison. The proposed changes do not impact the physical configuration or function of plant structures, systems, or components (SSCs) or the manner in which SSCs are operated, maintained, modified, or inspected [with the exception of a periodic re-baseline of the jet pump test acceptance criteria]. The proposed changes do not impact the initiators or assumptions of analyzed events, nor do they impact mitigation of accidents or transient events. [The proposed changes will continue to ensure that potential jet pump degradation is detected prior to failure and, as a result, ensure that the current margin of safety is maintained during postulated accidents].

Therefore, the proposed changes do not involve a significant increase in the probability or consequences of an accident previously evaluated.

2. Do the proposed changes create the possibility of a new or different kind of accident from any accident previously evaluated?

Response: No.

The proposed changes provide the ability to re-establish recirculation pump flow, core flow, or diffuser-to-lower plenum differential pressure patterns or characteristics, provided as the basis for performing the TS jet pump surveillances, based on physical changes to the plant that could affect the accuracy of the TS SR required comparison. The proposed changes do not alter plant configuration, require that new plant equipment be installed, alter assumptions made about accidents previously evaluated, or impact the function of plant SSCs or the manner in which SSCs are operated, maintained, modified, or inspected [with the exception of a periodic re-baseline of the jet pump test acceptance criteria].

Therefore, the proposed changes do not create the possibility of a new or different kind of accident from any accident previously evaluated.

3. Do the proposed changes involve a significant reduction in a margin of safety?

Response: No.

The proposed changes provide the ability to re-establish recirculation pump flow, core flow, or diffuser-to-lower plenum differential pressure patterns or characteristics, provided as the basis for performing the TS jet pump surveillances, based on physical changes to the plant that could affect the accuracy of the TS SR required comparison. The proposed changes do not involve any physical changes to plant SSCs or the manner in which SSCs are operated, maintained, modified, or inspected [with the exception of a periodic re-baseline of the jet pump test acceptance criteria]. The proposed changes do not involve a change to any safety limits, limiting safety system settings, limiting conditions of operation, or design parameters for any SSC. The proposed changes do not impact any safety analysis assumptions and do not involve a change in initial conditions, system response times, or other parameters affecting an accident analysis. [The proposed changes will continue to ensure that potential jet pump degradation is detected prior to failure and, as a result, ensure that the current margin of safety is maintained during postulated accidents.]

Therefore, the proposed changes do not involve a significant reduction in a margin of safety.

The NRC staff has reviewed the licensee's analysis and, based on this review, with the changes noted above, it appears that the three standards of 10 CFR 50.92(c) are satisfied. Therefore, the NRC staff proposes to determine that the amendment request involves no significant hazards consideration.

Attorney for licensee: J. Bradley Fewell, Esquire, Associate General Counsel, Exelon Generation Company, LLC, 4300 Winfield Road, Warrenville, IL 60555.

NRC Branch Chief: Harold K. Chernoff.

Southern Nuclear Operating Company, Inc., Docket Nos. 50-348 and 50-364, Joseph M. Farley Nuclear Plant, Units 1 and 2, Houston County, Alabama

Southern Nuclear Operating Company, Inc., Georgia Power Company, Oglethorpe Power Corporation, Municipal Electric Authority of Georgia, City of Dalton, Georgia, Docket Nos. 50-321 and 50-366; Edwin I. Hatch Nuclear Plant, Units 1 and 2, Appling County, Georgia

Southern Nuclear Operating Company, Inc., Docket Nos. 50-424 and 50-425; Vogtle Electric Generating Plant, Units 1 and 2, Burke County, Georgia

Date of amendment request: June 12, 2008.

Description of amendment request: The proposed amendments would revise the current Technical Specifications (TS) 5.2.2.f for the Farley, Hatch and Vogtle plants to require either the Operations Manager or at least one Operations Superintendent to hold a Senior Reactor Operator (SRO) license and to provide conforming changes to TS 5.3. An application that addressed only the TS 5.2.2.f issue was submitted on July 17, 2007, and notice of that application was provided in the Federal Register on September 25, 2007, for Farley (72 FR 5480), Hatch (72 FR 54481), and Vogtle (72 FR 54482). Due to changes in the June 12, 2008 application from those proposed in the July 17, 2007 application, the changed application is being renoticed in its entirety. This notice supersedes the previous notice published in the Federal Register on September 25, 2007.

Basis for proposed no significant hazards consideration determination: As required by 10 CFR 50.91(a), the licensee has provided its analysis of the issue of no significant hazards consideration, which is presented below:

1. Does the proposed amendment involve a significant increase in the probability or consequences of an accident previously evaluated?

Response: No.

The proposed change to TS 5.2 revises the requirement concerning the Operations management position that must hold an SRO license. At least one Operations Superintendent or the Operations Manager will continue to maintain an SRO license. The proposed change to TS 5.3.1 is a clarification regarding the qualifications of the Operations Manager. This clarification states that TS 5.2.2.f specifies the requirements for the Operations Manager regarding the holding of an SRO license. The training, qualification and experience requirements for Operations management personnel will continue to satisfy the Unit Staff Qualifications as described in the applicable TS 5.3.1.

This change does not impact any accident initiators or analyzed events. It does not impact any assumed mitigation capability for any accident or transient event. The change does not involve the addition or removal of any equipment or any design changes to the facility. As the proposed change is administrative in nature, operation of the facility in accordance with the proposed amendment does not involve a significant increase in the probability or consequences of an accident previously evaluated.

2. Does the proposed amendment create the possibility of a new or different kind of accident from any accident previously evaluated?

Response: No.

The proposed change to TS 5.2 revises the requirement concerning the Operations management position that must hold an SRO license. At least one Operations Superintendent or the Operations Manager will continue to maintain an SRO license. The proposed change to TS 5.3.1 is a clarification regarding the qualifications of the Operations Manager. This clarification states that TS 5.2.2.f specifies the requirements for the Operations Manager regarding the holding of an SRO license. The training, qualification and experience requirements for Operations management personnel will continue to satisfy the Unit Staff Qualifications as described in the applicable TS 5.3.1. This change does not involve any physical modifications to plant structures, systems, or components (SSCs), or the manner in which SSCs are operated, maintained, modified, tested, or inspected. In addition, there is no change in the types or increases in the amounts of effluents that may be released offsite, and there is no increase in individual or cumulative occupational radiation exposure. As the proposed change is administrative in nature, operation of the facility in accordance with the proposed amendment does not create the possibility of a new or different kind of accident from any accident previously evaluated.

3. Does the proposed amendment involve a significant reduction in a margin of safety?

Response: No.

The proposed change to TS 5.2 revises the requirement concerning the Operations management position that must hold an SRO license. At least one Operations Superintendent or the Operations Manager will continue to maintain an SRO license. The subject Operations Superintendent will be qualified to fill the Operations Manager position and have the same management authority over licensed operators as the Operations Manager. The proposed change to TS 5.3.1 is a clarification regarding the qualifications of the Operations Manager. This clarification states that TS 5.2.2.f specifies the requirements for the Operations Manager regarding the holding of an SRO license. The training, qualification and experience requirements for Operations management personnel will continue to satisfy the Unit Staff Qualifications as described in the applicable TS 5.3.1.

This change does not involve any physical modifications to SSCs, or the manner in which SSCs are operated, maintained, modified, tested, or inspected. The change does not alter the manner in which safety limits, limiting safety system settings, or limiting conditions for operation are determined. The setpoints at which protective actions are initiated are not altered by the change. As the proposed change is administrative in nature, operation of the facility in accordance with the proposed amendment does not involve a significant reduction in a margin of safety.

The NRC staff has reviewed the licensee's analysis and, based on this review, it appears that the three standards of 10 CFR 50.92(c) are satisfied.

Therefore, the NRC staff proposes to determine that the amendment request involves no significant hazards consideration.

Attorney for licensee: Farley: M. Stanford Blanton, Esq., Balch and Bingham, Post Office Box 306, 1710 Sixth Avenue North, Birmingham, Alabama 35201; Hatch: Ernest L. Blake, Jr., Esquire, Shaw, Pittman, Potts and Trowbridge, 2300 N Street, NW., Washington, DC 20037; Vogtle: Mr. Arthur H. Domby, Troutman Sanders, NationsBank Plaza, Suite 5200, 600 Peachtree Street, NE., Atlanta, Georgia 30308-2216.

NRC Branch Chief: Melanie C. Wong.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Dominion Nuclear Connecticut, Inc., Docket Nos. 50-336 and 50-423, Millstone Power Station, Unit Nos. 2 and 3, New London County, Connecticut

Date of amendment request: July 13, 2007.

Brief description of amendment request: The proposed amendment would modify the Technical Specifications (TSs) and facility operating licenses in response to the application dated July 13, 2007, as supplemented by letters dated December 7, 2007, March 5 and 25, 2008, and April 28, 2008. The proposed amendment would establish more effective and appropriate action, surveillance, and administrative requirements related to ensuring the habitability of the control room envelope in accordance with the Commission-approved TS Task Force (TSTF) Standard Technical Specification change traveler TSTF-448, Revision 3, “Control Room Habitability.” Additionally, the proposed amendment would change the “irradiated fuel movement” terminology and adopt “movement of recently irradiated fuel assemblies” terminology consistent with TSTF-448, Revision 3.

Date of publication of individual notice in Federal Register: May 16, 2008 (73 FR 28534).

Expiration dates of individual notice: June 16, 2008 (Public comments) and July 15, 2008 (Hearing requests).

Florida Power and Light Company, et al., Docket No. 50-389, St. Lucie Plant, Unit No. 2, St. Lucie County, Florida

Date of amendment request: July 16, 2007, as supplemented June 2, 2008.

Description of amendment request: To modify the operating licensing bases to adopt the alternative source term as allowed in 10 CFR 50.67 and described in Regulatory Guide 1.183. The licensee proposes to revise the licensing basis through reanalysis of the following radiological consequences of the Updated Final Safety Analysis Report Chapter 15 accidents: Loss-of-Coolant Accident, Fuel-Handling Accident, Main Steam Line Break, Steam Generator Tube Rupture, Reactor Coolant Pump Shaft Seizure, Control Element Assembly Ejection, and Inadvertent Opening of a Main Steam Safety Valve.

Date of publication of individual notice in the Federal Register: June 12, 2008 (73 FR 33460).

Expiration date of individual notice: July 14, 2008 (comments) and August 11, 2008 (hearing).

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for a Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

Carolina Power & Light Company, et al., Docket No. 50-400, Shearon Harris Nuclear Power Plant, Unit 1, Wake and Chatham Counties, North Carolina

Date of application for amendment: June 15, 2007, as supplemented by letter dated March 6, 2008.

Brief description of amendment: This amendment relocates the Inservice Testing (IST) requirements to the administrative section of the Technical Specifications (TSs), removes the Inservice Inspection (ISI) requirements from the TSs, and establishes a TS Bases Control Program. Specifically, the amendment deletes TS 4.0.5, relocates the IST requirements to section 6 of the TSs as a separate program, and establishes a TS Bases Control Program consistent with NUREG-1431, Revision 3.0, “Standard Technical Specifications—Westinghouse Plants.” This amendment supports the third 10-year intervals of the ISI and IST programs at the Shearon Harris Nuclear Plant, Unit 1.

Date of issuance: June 12, 2008.

Effective date: Effective as of the date of issuance and shall be implemented within 60 days.

Amendment No.: 127.

Operating License No. NPF-63: The amendment revises the TSs and Facility Operating License.

Date of initial notice in Federal Register: July 31, 2007 (72 FR 41782).

Public comments requested as to proposed no significant hazards consideration: No.

The Commission's related evaluation of the amendment is contained in a safety evaluation dated June 12, 2008.

Attorney for licensee: David T. Conley, Associate General Counsel II—Legal Department, Progress Energy Service Company, LLC, Post Office Box 1551, Raleigh, North Carolina 27602-1551.

NRC Branch Chief: Thomas H. Boyce.

Entergy Nuclear Operations, Inc., Docket No. 50-286, Indian Point Nuclear Generating Unit No. 3, Westchester County, New York

Date of application for amendment: February 28, 2008.

Brief description of amendment: The amendment revises the containment buffering agent used for pH control under post loss-of-coolant accident (LOCA) conditions, from sodium hydroxide to sodium tetraborate.

Date of issuance: June 9, 2008.

Effective date: As of the date of issuance, and shall be implemented within 60 days.

Amendment No.: 236.

Facility Operating License Nos. DPR-64: The amendment revised the License and the Technical Specifications.

Date of initial notice in Federal Register: April 8, 2008 (73 FR 19109).

The Commission's related evaluation of the amendment is contained in a Safety Evaluation dated June 9, 2008.

No significant hazards consideration comments received: No.

Entergy Nuclear Operations, Inc., Docket Nos. 50-247 and 50-286, Indian Point Nuclear Generating Unit Nos. 2 and 3, Westchester County, New York

Date of application for amendment: December 20, 2007.

Brief description of amendment: The amendments revise the Technical Specifications (TSs) associated with the definition of E Bar and Reactor Coolant System (RCS) Specific Activity consistent with Revision 0 to the TS Task force (TSTF) Standard Technical Specification Change Document TSTF-490, “Deletion of E Bar Definition and Revision to RCS Specific Activity Tech Spec.”

Date of issuance: June 17, 2008.

Effective date: As of the date of issuance, and shall be implemented within 60 days.

Amendment Nos.: 254 and 237.

Facility Operating License Nos. DPR-26 and DPR-64: The amendment revised the License and the Technical Specifications.

Date of initial notice in Federal Register: March 25, 2008 (73 FR 15786).

The Commission's related evaluation of the amendment is contained in a Safety Evaluation dated June 17, 2008.

No significant hazards consideration comments received: No.

Virginia Electric and Power Company, et al., Docket Nos. 50-280 and 50-281, Surry Power Station, Unit Nos. 1 and 2, Surry County, Virginia

Date of application for amendments: June 25, 2007, as supplemented on November 14, 2007, January 10, and April 11, 2008.

Brief description of amendments: These amendments increased the maximum Technical Specification (TS) service water (SW) temperature limit from 95 °F to 100 °F, and revised the TS Figure 3.8-1, which provides the allowable containment air partial pressure versus SW temperature.

Date of issuance: June 17, 2008.

Effective date: As of the date of issuance and shall be implemented within 30 days.

Amendment Nos.: 259 and 259.

Renewed Facility Operating License Nos. DPR-32 and DPR-37: Amendments changed the licenses and the technical specifications.

Date of initial notice in Federal Register: July 17, 2007 (72 FR 39084).

The supplements dated November 14, 2007, January 10 and April 11, 2008, provided additional information that clarified the application, did not expand the scope of the application as originally noticed, and did not change the staff's original proposed no significant hazards consideration determination.

The Commission's related evaluation of the amendments is contained in a Safety Evaluation dated June 17, 2008.

No significant hazards consideration comments received: No.

Dated at Rockville, Maryland, this 18th day of June, 2008.
For the Nuclear Regulatory Commission.
Timothy J. McGinty,
Acting Director, Division of Operating Reactor Licensing, Office of Nuclear Reactor Regulation.

[FR Doc. E8-14342 Filed 6-30-08; 8:45 am]

BILLING CODE 7590-01-P